DEPARTMENT OF HEALTH AND HUMAN SERVICES

Announcement of Availability of Funds for a Cooperative Agreement To Improve and Sustain the Leadership and Management Capacity and To Improve Operations and Delivery of Quality Health Care Within the Rabia Balkhi Women's Hospital

AGENCY: Department of Health and Human Services, Office of the Secretary, Office of Public Health and Science, Office of Global Health Affairs.

Announcement Type: Cooperative Agreement—FY 2005 Initial Announcement.

Funding Opportunity Number: OGHA 05-018.

OMB Catalog of Federal Domestic Assistance: TBD, In Process.

Authority: Section 103(a)(1); Section 103(a)(7) of Public Law 107-327; Public Health Service Act, Section 307.

SUMMARY: The Office of Global Health Affairs (OGHA) announces that an estimated $1.5 million in fiscal year (FY) 2005 funds are available for one (1) cooperative agreement to strengthen leadership, healthcare administration and facility management and to improve operations and improve health care delivery at Rabia Balkhi Women's Hospital (RBH) in Kabul, Afghanistan. This effort is a joint undertaking by the U.S. Department of Health and Human Services (HHS) and the Afghanistan Ministry of Public Health (MOPH). The goal of this project is to create equitable and high quality care at Rabia Balkhi Women's Hospital by developing effective leadership and management and improving operations. The funding will provide essential material resources within budgetary limitations for patient care, operations, facility management and for grant activities related to leadership and management development at RBH. A Memorandum of Understanding (MOU) between the grantee and the Afghan MOPH will detail the differentiated responsibilities of the awardee toward RBH and the conditions under which the MOPH will transfer operational and logistical authority and responsibility for management and operations of RBH to the awardee. Alongside this support, through a separate, ongoing cooperative agreement, HHS is currently providing support for staff development and continuing education at RBH, and the Department of Defense is providing approximately $1.4M in infrastructure upgrades. This new cooperative agreement is not anticipated to involve training of the clinical staff at RBH, but should include limited training and capacity-building of administrative or executive management staff.

HHS, in partnership with other relevant United States Government (USG) agencies anticipates involvement in the development, administration and oversight of this hospital management improvement program. The program will be approved initially for a three-year period. It is estimated that approximately $1.5 million (including indirect costs) will be available in the first year. Funding for the cooperative agreement in subsequent years is contingent upon the availability of funds.

DATES: Application Availability: September 6, 2005. Optional Letter of Intent due by 5 p.m. e.t. September 13, 2005.

Application due by 5 p.m. e.t.: September 21, 2005.

Award date: September 30, 2005.

ADDRESSES: Application kits may be requested from, and applications submitted to: Ms. Karen Campbell, Director, Office of Grants Management, Office of Public Health and Science (OPHS), HHS, 1101 Wootton Parkway, Suite 550, Rockville, MD 20852.

I. Funding Opportunity Description

Purpose of the Agreement

Afghanistan has one of the highest maternal mortality rates (MMR) in the world with a rate of 1,600 maternal deaths per 100,000 live births. In Badakhshan Province, the MMR is 6,500, the highest maternal mortality rate ever reported globally. Preventable complications related to childbirth cause more than 85 percent of deaths among women of childbearing age in Afghanistan. An estimated one in four children dies before reaching their fifth birthday.

The government of Afghanistan has established the improvement in women and child health as one of its highest priorities. Hospital management within Afghanistan is of great concern to the MOPH and the international donor community. Competent hospital and clinic administration is critical to the efficient and effective provision of health care, particularly in resource-constrained environments. Afghanistan is recovering from more than twenty years of civil unrest and war. This period has taken its toll on the quality of the entire spectrum of health care delivery, public health and health professional education.

The public hospitals in Afghanistan, including those that provide critical care to women and children, face overwhelming problems in the areas of staffing, training, equipment, supplies and pharmaceuticals. One area of increasing concern is hospital leadership and management. Without effective and efficient administration, investments in the problem areas will have little probability of success. Without functioning hospital support services, such as patient record-keeping, human resources, financial management, housekeeping, laundry, physical plant and grounds maintenance, security and many other departments that allow a hospital to function well, the physicians, nurses and other clinical staff are not able to provide quality care.

Rabia Balkhi Hospital was one of the referral hospitals for women under the Taliban and was declared the only women's hospital in 1997. It is located adjacent to a major bazaar in District 2 of Kabul and consists of a large two-story building and two ancillary buildings within a courtyard. It has a theoretical in-patient capacity of 212 to 250 beds of which 80 to 100 are designated for Gynecology and Obstetrics. Approximately 25 to 30 deliveries occur each day and approximately 7,500 to 11,000 babies are delivered there each year. The hospital sees approximately 300 to 400 out patients daily. It is a referral hospital with no formal relations with other maternity departments or pediatric hospitals. Its main partner for sick newborns is Indira Gandhi Children's Hospital, also in Kabul.

A study of hospitals in Afghanistan by the Embassy of France (2002) indicated there were 95 physicians and 100 paramedics at RBH while MOPH data (2002) stated there were 265 health care workers at RBH of which 110 were doctors and 120 other workers. Medicins du Monde (2002) reported 110 doctors, 75 nurses, 100 workers and 8 administrative staff. Both French Mission data and MOPH data indicate approximately a 1.00 total staff to bed ratio at RBH.

MOPH leadership has approached the U.S. Government with a request for assistance to augment their capacity to develop policy and implement best practices in hospital management and operations. HHS and its partners are committed to working with the MOPH and Ministry of Finance (MOF) to address these problems.

The United States Government is currently engaged in numerous cooperative efforts with other countries, NGOs, donor and implementing organizations to assist the MOPH improve the health status of Afghan people. Former HHS Secretary Tommy G. Thompson signed a Memorandum of Understanding (MOU) with the Afghanistan Minister of Health (MOH) on October 9, 2002, pledging the support of American citizens to help in these efforts. In early 2003, HHS entered into collaboration with the MOPH to improve the maternal and child health services available within Afghanistan. One of the long-term goals of this HHS-MOPH collaboration is to develop an Afghan-appropriate OB/GYN graduate medical education program in Kabul that reflects Afghan culture within the context of evidence-based obstetrical and gynecological medical practice and meets appropriate international standards.

As a first step, HHS funded a clinical knowledge and skills refresher training program at RBH in April 2003. The intent of this refresher training has been to update the knowledge and skills of the current RBH attending physicians and other professional staff. HHS is providing focused, short-term training to the RBH staff to improve their basic knowledge levels and to update the clinical skills needed to respond to the critical needs of the high-risk patient community accessing care at this facility. Additionally, HHS, through HHS/Centers for Disease Control and Prevention (CDC), provides expert technical guidance and advisory consultation for the continued development and implementation of a facility-based Health Management System (HMIS), Surveillance, Quality Assurance and Hospital Infection Program (HIPP) at RBH. Simultaneously, the Department of Defense (DoD) is providing critical infrastructural improvements to the physical plant.

In 2004, HHS provided funding to continue the RBH training program through a $2.2 million cooperative agreement with the implementing NGO, International Medical Corps (IMC). The cooperative agreement between IMC will continue to support the provision of staff development and refresher training for clinical staff, including physicians, nurse midwives and ancillary health care workers and is working toward the development of a Residency program for Obstetrics and Gynecology.

Throughout 2004 it became increasingly clear to various USG representatives that ongoing significant investments in Kabul hospitals were unsustainable without improved hospital management. Discussions with MOPH leadership, including the Minister of Health, led to a request for USG assistance in improving health facility management in general throughout Afghanistan, and in particular in Kabul Maternal-Child Hospitals (to which the USG had already been providing significant assistance). At the request of the MOPH, the USG agreed to facilitate and sponsor an international health facility management summit in Kabul, under the leadership of the MOPH, to raise awareness of and seek assistance in health facility management issues.

Around this time, the Ministry was also beginning to explore unique solutions to the complex challenge of improving management at tertiary/national hospitals. To this end, the Ministry entered into non-profit, public-private partnerships with Cure International to manage Darulaman hospital and Loma Linda University to manage Wazir Akhbar Khan hospital. Through Formal Memoranda of Understanding, the MOPH agreed to transfer significant authority and autonomy to these organizations to manage these hospitals utilizing current best practices, thus overtaking some of the entrenched bureaucratic and political hurdles to hospital management reform. Another novel component of the agreements was that the Ministry would continue to provide baseline funding and staffing to these hospitals, which Loma Linda and Cure are free to augment with other sources of funding, including sliding-scale fee-for-service proceeds—provided that indigent persons still receive care free of charge. USG representatives and MOPH counterparts began to view this approach as holding promise for improving management and operations of Kabul Maternal-Child Hospitals. Discussions led to the notional concept of a non-profit, public-private Kabul maternal-child hospital consortium, with a common Board of Directors, but with each hospital managed by a private sector partner in a fashion similar to the arrangements with Cure and Loma Linda.

This Cooperative Agreement is intended to complement and build upon the work of the MOPH Hospital Management Task Force and its efforts to implement the Essential Package of Hospital Services (EPHS) and the recommendations of the Joint USG/MOPH health facility management planning team as outlined above. Implementation and adherence to recognized evidence based healthcare and facility management standards will be essential elements of successful proposals.

The primary role of the award recipient of this cooperative agreement will be to implement and support effective leadership and management and improve operations and health care delivery in RBH, while building the Afghan capacity to assume these functions in the future.

It is anticipated that multiple sources of significant revenue, in addition to this cooperative agreement, will be available for leveraging in accomplishment of the objectives. These include:

• Current MOPH operating expenses, supplies, and staff for RBH will continue to be provided.

• DoD is contributing $1.4M to infrastructure upgrades at RBH.

• The awardee will be given the authority (similar to Cure and Loma Linda) to establish a sliding-scale, fee-for-service revenue enhancement program.

• With professional management in place, it is likely that international donors will be willing to make additional donations or in-kind contributions to improve health care delivery at RBH; the Afghan and U.S. governments will continue to solicit such additional assistance.

The grantee will be expected to optimally leverage these funding streams, in addition to the grant funds, to accomplish grant objectives.

This cooperative agreement is not anticipated to involve training of the clinical staff at RBH, but should include limited training of administrative or executive management staff. Upon award, the award recipient will develop and implement a formal three-year work plan. This plan is expected to include all of the below mentioned activities with timelines for completion and designated responsible agents. Measurable goals, objectives, and outcomes are expected to be integrated into the workplan:

• Provide a mission statement, including projected scope of service, definition of the catchment area, bed capacity and projected length of stay.

○ Including a plan to draw down specialty services at RBH to focus on Obstetric and Gynecologic care

• Develop an assessment of all available equipment with the status of functionality; identification of the extent and estimated cost for repair/rehabilitation and a plan for maintenance and regular inventory inspection and control.

• Develop an annual operational and personnel budget.

○ Including a plan to identify, optimize, consolidate and effectively utilize all available funding sources for RBH.

• Listing and justification, including cost for procurement, of essential equipment, supplies and pharmaceuticals.

• Describe a method for elimination of waste and abuse of equipment and supplies and development of a hospital security system.

• Description of all support services including transportation and ambulance service with staffing details and a three year plan for future technical development of services.

• Description of a Hospital Management Board, Hospital Buying/Purchasing Committee and a Hospital Community Board to include membership qualifications, terms of reference and the identification of methods to increase community input into the overall oversight of the hospitals responsibilities.

• Description of the salary scale plus merit for performance, which yields, increased efficiency payment system for the providers

• Design for job descriptions/performance appraisals for all personnel.process

• Coordinate educational efforts to support the management training with the presently funded IMC and CDC Plans for clinical education and training. Include a discipline specific needs assessment, training plan with objectives using a variety of teaching methodologies; evaluation measures and include i timelines for competency skill assessment and testing.

• Create a plan for executive and management training which may consist of planned exercises, mentoring by international experts and facilitation by peer networking. All efforts must compliment MOPH efforts and reflect Institute of Health Sciences training standards.

• Building upon the current referral system with Basic Health Centers, refine the referral processes between all appropriate health care facilities to ensure a seamless delivery system. Build in a method to ensure accountability and lay the foundation for a system-wide integrated continuum of care.

• Plan for incorporation of the HHS/CDC-developed Health Management Information system, including patient record-keeping.

• Plan to improve and modernize information and communication technology capabilities—appropriate to the Afghan environment.

• Plan for incorporating and implementing evidence-based standards of care and best practices, including quality assurance and quality improvement programs.

• Plan for development and implementation of case management.

• Plan for internal monitoring and evaluation to include clinical and management processes, output and outcome indicators.

• Plan to identify services which would more efficiently be shared with other Kabul maternal-child hospitals, such as laboratory, advanced imaging, etc. * * *

• Plan to identify services which would be more efficiently privatized, such as laundry, cleaning, security, etc. * * *

• Plan to cooperate with and facilitate development of the non-profit, public-private Kabul maternal-child hospital Consortium, of which RBH will be a key component.

Finally, the award recipient will monitor and report progress quarterly and conduct a comprehensive evaluation of all required elements and conditions, including outcome measures for effectiveness and efficiency.

SUPPLEMENTARY INFORMATION: The OGHA/OS/HHS provides policy and staffing support to the Secretary and other HHS leaders in the area of global health, and provides policy advice, leadership and coordination of international health matters across HHS, including leadership on major crosscutting global health initiatives and the Department's relationships with multilateral organizations.

Through this cooperative agreement, HHS will collaborate in an advisory capacity with the award recipient, especially during the development and implementation of a mutually agreed-upon work plan. HHS will actively participate in periodic progress reviews and a final evaluation of the program.

Obligations of OGHA/OS/HHS:

1. Assurance of the services of appropriately experienced HHS or other subject matter experts from other relevant agencies to participate in the planning, development, implementation, and evaluation of all phases of this project.

2. Assistance in establishing and maintaining USG, MOPH, and non-governmental organizations (NGOs) contracts and agreements necessary to carry out the program.

II. Award Information

The administrative and funding instrument to be used for this program will be the cooperative agreement in which HHS scientific and program involvement with the grantee is anticipated during the performance of the maximum funding level of up to $1.5 million (including indirect costs) is available for the initial 12-month budget period. Two successive 12-month periods may be funded during the life of this agreement. Continuation of this project from one budget period to the next and level of funding are subject to satisfactory performance, availability of funds, and program priorities.

Although this program is provided for in the financial plans of the OGHA, awards pursuant to this notice are contingent upon the availability of funds for this purpose.

III. Eligibility Information

1. Eligible Applicants

Applications may be submitted by non-profit entities with offices in the United States and partner country or incorporated and headquartered in the United States with offices in the United States. Additionally, organizations or consortiums of organizations, including faith-based and community based organizations, that have collective experience with accepting donated medical technology, upgrading drug formularies, training health care providers, local and international transportation, and other logistics are encouraged to apply for a grant under this announcement.

2. Cost Sharing or Matching

Cost sharing, matching funds, and cost participation is not a requirement of this agreement.

3. Other—(If Applicable): N/A

IV. Application and Submission Information

1. Address To Request Application Package

This Cooperative Agreement project uses the Application Form OPHS-1, Revised 8/2004, which is enclosed in your application packet. This generic form is used by many different programs funded through the Public Health Service (PHS). Some parts of it are not required; other sections need to be filled out in a fashion specific to the program. Instructions for filling out OPHS-1, Revised 8/2004 will be included in the application packet. These forms may also be obtained from the following sites by: Downloading from https://egrants.osophs.dhhs.gov and clicking on Grant Announcements or http://www.grants.gov/ or by writing to Ms. Karen Campbell, Director, Office of Grants Management, OPHS, HHS Tower Building, 1101 Wootton Parkway, Suite 550, Rockville, MD 20852; or contact the Office of Grants Management at (240) 453-8822. Please specify the OGHA program(s) for which you are requesting an application kit.

2. Content and Form of Application Submission

Application Materials

A separate budget page is required for the budget year requested. A line item budget (SF 424A) with coinciding justification to support each of the budget years must be submitted with the proposal. These forms will represent the full project period of Federal assistance requested. Proposals submitted without a budget and justification for each budget year requested in the application may not be favorably considered for funding. Specific instructions for submitting a detailed budget for this application will be included in the application packet. If additional information and/or clarification are required, please contact the OPHS Office of Grants Management identified in Section VII of this announcement.

All applications must be accompanied by a Project Abstract submitted on 3.5 inch floppy disk. The abstract must be typed, single-spaced, and not exceed 2 pages. Reviewers and staff will refer frequently to the information contained in the abstract, and therefore it should contain substantive information about the proposed projects in summary form. A list of suggested keywords and a format sheet for your use in preparing the abstract will be included in the application packet.

All grant applications must be accompanied by a Project Narrative. In addition to the instructions provided in OPHS-1 (Rev 8/2004) for project narrative, the specific guidelines for the project narrative are provided in the program guidelines. Format requirements are the same as for the Project Abstract Section; margins should be 1 inch at the top and 1 inch at the bottom and both sides; and typeset must be no smaller than 12 cpi and not reduced. Biographical sketches should be either typed on the appropriate form or plain paper and should not exceed two pages, with publications listed being limited only to those that are directly relevant to this project.

Application Format Requirements

If applying on paper, the entire application may not exceed 80 pages in length, including the abstract, project and budget narratives, face page, attachments, any appendices and letters of commitment and support. Pages must be numbered consecutively.

Applications submitted electronically that exceed 80 pages when printed will be deemed non-compliant. All non-compliant applications will be returned to the applicant without further consideration.

a. Number of Copies

Please submit one (1) original and two (2) unbound copies of the application.

Please do not bind or staple the application. Application must be single sided.

b. Font

Please use an easily readable serif typeface, such as Times Roman, Courier, or CG Times. The text and table portions of the application must be submitted in not less than 12 point and 1.0 line spacing. Applications not adhering to 12 point font requirements may be returned.

c. Paper Size and Margins

For scanning purposes, please submit the application on 8½″ x 11″ white paper. Margins must be at least one (1) inch at the top, bottom, left and right of the paper. Please left-align text.

d. Numbering

Please number the pages of the application sequentially from page 1 (face page) to the end of the application, including charts, figures, tables, and appendices.

e. Names

Please include the name of the applicant on each page.

f. Section Headings

Please put all section headings flush left in bold type.

Application Format: Applications for funding must consist of the following documents in the following order:

i. Application Face Page

Public Health Service (PHS) Application Form OPHS-1, provided with the application package. Prepare this page according to instructions provided in the form itself.

DUNS Number

All applicant organizations are required to have a Data Universal Numbering System (DUNS) number in order to apply for a grant from the Federal Government. The DUNS number is a unique nine-character identification number provided by the commercial company, Dun and Bradstreet. There is no charge to obtain a DUNS number. Information about obtaining a DUNS number can be found at https://www.dnb.com/product/eupdate/requestOptions.html or call 1-866-705-5711. Please include the DUNS number next to the OMB Approval Number on the application face page. Applications will not be reviewed without a DUNS number.

Additionally, the applicant organization will be required to register with the Federal Government's Central Contractor Registry (CCR) in order to do electronic business with the Federal Government. Information about registering with the CCR can be found at http://www.hrsa.gov/grants/ccr.htm.

Finally, applicants applying electronically through Grants.gov are required to register with the Credential Provider for Grants.gov. Information about this requirement is available at http://www.grants.gov/CredentialProvider.

Applicants applying electronically through the OPHS E-Grants System are required to register with the provider. Information about this requirement is available at https://egrants.osophs.dhhs.gov.

ii. Table of Contents

Provide a Table of Contents for the remainder of the application (including appendices), with page numbers.

iii. Application Checklist

Application Form OPHS-1, provided with the application package.

iv. Budget

Application Form OPHS-1, provided with the application package.

v. Budget Justification

The amount of financial support (direct and indirect costs) that an applicant is requesting from the Federal granting agency for the first year is to be entered on the Face Sheet of Application Form PHS 5161-1, Line 15a. Each application should include funds for electronic mail capability unless access by Internet is already available. The amount of financial support (direct and indirect costs) entered on the SF 424 is the amount an applicant is requesting from the Federal granting agency for the project year. Please note that if indirect costs are requested, the applicant must submit a copy of the latest negotiated rate agreement. The indirect costs rate refers to the Other Sponsored Program/Activities rate and to neither the research rate, nor the education/training program rate. Those applicants without an established indirect cost rate for sponsored programs will be held at 26% of total direct costs except, in cases where there is no established rate, applicants may only request 10% of salaries and wages. However, if an applicant's established rate for other sponsored programs exceeds 26%, but would be advantageous to the government, the OGHA/HHS may honor that indirect rate cost.

Personnel Costs: Personnel costs should be explained by listing each staff member who will be supported from funds, name (if possible), position title, percent full time equivalency, annual salary, and the exact amount requested.

Indirect Costs: Indirect costs are those costs incurred for common or joint objectives which cannot be readily identified but are necessary to the operations of the organization, e.g., the cost of operating and maintaining facilities, depreciation, and administrative salaries. For institutions subject to OMB Circular A-21, the term “facilities and administration” is used to denote indirect costs. If the applicant does not have an indirect cost rate, you may obtain one by visiting the Division of Cost Allocation Web site: http://rates.psc.gov.

Fringe Benefits: List the components that comprise the fringe benefit rate, for example health insurance, taxes, unemployment insurance, life insurance, retirement plan, tuition reimbursement. The fringe benefits should be directly proportional to that portion of personnel costs that are allocated for the project.

Travel: List travel costs according to local and long distance travel. For local travel, the mileage rate, number of miles, reason for travel and staff member/consumers completing the travel should be outlined. The budget should also reflect the travel expenses associated with participating in meetings and other proposed trainings or workshops.

Equipment: List equipment costs and provide justification for the need of the equipment to carry out the program's goals. Extensive justification and a detailed status of current equipment must be provided when requesting funds for the purchase of computers and furniture items.

Supplies: List the items that the project will use. In this category, separate office supplies from medical and educational purchases. Office supplies could include paper, pencils, and the like; medical supplies are syringes, blood tubes, plastic gloves, etc., and educational supplies may be pamphlets and educational videotapes. Remember, they must be listed separately.

Subcontracts: To the extent possible, all subcontract budgets and justifications should be standardized, and contract budgets should be presented by using the same object class categories contained in the Standard Form 424A. Provide a clear explanation as to the purpose of each contract, how the costs were estimated, and the specific contract deliverables.

Other: Put all costs that do not fit into any other category into this category and provide an explanation of each cost in this category. In some cases, grantee rent, utilities and insurance fall under this category if they are not included in an approved indirect cost rate.)

vi. Staffing Plan and Personnel Requirements

Applicants must present a staffing plan and provide a justification for the plan that includes education and experience qualifications and rationale for the amount of time being requested for each staff position. Position descriptions that include the roles, responsibilities, and qualifications of proposed project staff must be included in Appendix XX. Copies of biographical sketches for any key employed personnel that will be assigned to work on the proposed project must be included in Appendix XX.

vii. Project Abstract

Provide a summary of the application. Because the abstract is often distributed to provide information to the public and Congress, please prepare this so that it is clear, accurate, concise, and without reference to other parts of the application. It must include a brief description of the proposed grant project including the needs to be addressed, the proposed services, and the population group(s) to be served.

Please place the following at the top of the abstract:

• Project Title

• Applicant Name

• Address

• Contact Phone Numbers (Voice, Fax)

• E-Mail Address

• Web Site Address, if applicable

The project abstract must be single-spaced and limited to two pages in length.

vii. Program Narrative

This section provides a comprehensive framework and description of all aspects of the proposed program. It should be succinct, self-explanatory and well organized so that reviewers can understand the proposed project.

Use the following section headers for the Narrative:

• Introduction: This section should briefly describe the purpose of the proposed project.

• Work Plan: Describe the activities or steps that will be used to achieve each of the activities proposed in the methodology section. Use a time line that includes each activity and identifies responsible staff.

• Resolution of Challenges: Discuss challenges that are likely to be encountered in designing and implementing the activities described in the Work Plan, and approaches that will be used to resolve such challenges.

• Evaluation and Technical support Capacity: Describe current experience, skills, and knowledge, including individuals on staff, materials published, and previous work of a similar nature.

• Organizational Information: Provide information on the applicant agency's current mission and structure, scope of current activities, and an organizational chart, and describe how these all contribute to the ability of the organization to conduct the program requirements and meet program expectations.

iii. Appendices

Please provide the following items to complete the content of the application. Please note that these are supplementary in nature, and are not intended to be a continuation of the project narrative. Be sure each appendix is clearly labeled.

(1) Appendix A: Tables, Charts, etc.—To give further details about the proposal.

(2) Appendix B: Job Descriptions for Key Personnel—Keep each to one page in length as much as is possible. Item 6 in the Program Narrative section of the PHS 5161-1 Form provides some guidance on items to include in a job description.

(3) Appendix C: Biographical Sketches of Key Personnel—Include biographical sketches for persons occupying the key positions described in Appendix B, not to exceed two pages in length. In the event that a biographical sketch is included for an identified individual who is not yet hired, please include a letter of commitment from that person with the biographical sketch.

(4) Appendix D: Letters of Agreement and/or Description(s) of Proposed/Existing Contracts (project specific)—Provide any documents that describe working relationships between the applicant agency and other agencies and programs cited in the proposal. Documents that confirm actual or pending contractual agreements should clearly describe the roles of the subcontractors and any deliverable Letters of agreements must be dated.

(5) Appendix E: Project Organizational Chart—Provide a one-page figure that depicts the organizational structure of the project, including subcontractors and other significant collaborators.

(6) Appendix F: Other Relevant Documents—Include here any other documents that are relevant to the application, including letters of supports. Letters of support must be dated.

3. Submission Dates and Times

Notification of Intent To Apply

A letter of intent is not required. However, if a letter of intent is submitted, the letter should identify the applicant organization and its intent to apply, and briefly describe the proposal to be submitted. Receipt of Letters of Intent will not be acknowledged.

This letter should be sent by September 13, 2005, by mail or fax to: Department of Health and Human Services, Office of the Secretary, Office of Global Health Affairs, 5600 Fishers Lane, Suite 18-101, Rockville, MD 20857, Facsimile Number: 301-443-2820.

Application Submission: The OPHS provides multiple mechanisms for submission of applications as described in the following sections.

Electronic Submission: The OPHS electronic grants management system, eGrants, provides for applications to be submitted electronically. While applications are accepted in hard copy, the use of the electronic application submissions capabilities provided by the eGrants system is encouraged. Information about this system is available on the Office of Population Affairs Web site at http://opa.osophs.dhhs.gov, or may be requested from the OPHS Office of Grants Management at 240-453-8822. Applications sent via any other means of electronic communication, including facsimile or electronic mail, outside of the OPHS eGrants system will not be accepted for review.

The body of the application and required forms can be submitted using the e-Grants system. In addition to electronically submitted materials, applicants are required to provide a hard copy of the application face page (Standard Form 424 [Revised 07/03]) with the original signature of an individual authorized to act for the applicant agency or organization and to assume for the organization the obligations imposed by the terms and conditions of the grant award. The application is not considered complete until both the electronic application and the hard copy of the face page with the original signature are received.

Electronic grant application submissions must be submitted no later than 5 p.m. eastern time on the deadline date specified in the DATES section of the announcement. All required hard copy original signatures and mail-in items must be received by the OPHS Office of Grants Management no later than 5 p.m. eastern time on the next business day after the deadline date specified in the DATES section of the announcement.

Applications will not be considered valid until all electronic application components, hard copy original signatures, and mail-in items are received by the OPHS Office of Grants Management according to the deadlines specified above. Any application submitted electronically after 5 p.m. eastern time on the deadline date specified in the DATES section of the announcement will be considered late and will be deemed ineligible. Failure of the applicant to submit all required hard copy original signatures to the OPHS Office of Grants Management by 5 p.m. eastern time on the next business day after the deadline date specified in the DATES section of the announcement will result in the electronic application being deemed ineligible.

Upon completion of a successful electronic application submission, the eGrants system will provide the applicant with a confirmation page indicating the date and time (eastern time) of the electronic application submission. This confirmation page will also provide the receipt status of all indicated signatures and items to be mailed to the OPHS Office of Grants Management. As items are received by the OPHS Office of Grants Management, the electronic application status will be updated to reflect the receipt of mail-in items. It is recommended that the applicant monitor the status of their application to ensure that all signatures and mail-in items are received.

Applicants are encouraged to initiate electronic applications early in the application development process, and to submit early on the due date or before. This will aid in addressing any problems with submission prior to the application deadline.

Mailed Hard Copy Applications: Applications submitted in hard copy must include an original and two copies of the application. The original application must be signed by an individual authorized to act for the applicant agency or organization and to assume for the organization the obligations imposed by the terms and conditions of the grant award.

Mailed applications will be considered as meeting the deadline if they are received by the OPHS Office of Grants Management on or before 5 p.m. eastern time on the deadline date specified in the DATES section of the announcement. The application deadline date requirement specified in this announcement supercedes the instructions in the OPHS-1. Applications that do not meet the deadline will be returned to the applicant unread.

Hand-Delivered Applications: Hand-delivered applications must be received by the OPHS Office of Grants Management, 1101 Wootten Parkway, Suite 550, Rockville, Maryland, 20852, no later than 5 p.m. eastern time on the deadline date specified in the DATES section of the announcement. Hand-delivered applications must include an original and two copies of the application. The original application must be signed by an individual authorized to act for the applicant agency or organization and to assume for the organization the obligations imposed by the terms and conditions of the grant award.

Applications will be screened upon receipt. Those that are judged to be incomplete or arrive after the deadline will be returned without review or comment. Applications that exceed the requested amount may also be returned without review or comment. Applicants that are judged to be in compliance will be notified by the OPHS Office of Grants Management. Accepted applications will be reviewed for technical merit in accordance with DHHS policies.

Applications should be submitted to: Director, Office of Grants Management, OPHS, HHS, 1101 Wootten Parkway, Suite 550, Rockville, MD 20852. Technical assistance on budget and business aspects of the application may be obtained from the Office of Grants Management, OPHS, HHS, 1101 Wootten Parkway, Suite 550, Rockville, MD 20852, telephone: (240) 453-8822.

4. Intergovernmental Review

This program is not subject to the review requirements of Executive Order 12372, Intergovernmental Review of Federal Programs.

5. Funding Restrictions

Allowability, allocability, reasonableness, and necessity of direct and indirect costs that may be charged are outlined in the following documents: OMB-21 (Institutes of Higher Education); OMB Circular A-122 (Nonprofit Organizations) and 45 CFR part 74, appendix E (Hospitals). Copies of these circulars can be found on the Internet at: http://www.whitehouse.gov/omb.

6. Other Submission Requirements: N/A

V. Application Review Information

1. Criteria

Applications will be screened by OGHA staff for completeness and for responsiveness to the program guidance. Applicants should pay strict attention addressing these criteria, as they are the basis upon which their applications will be judged. Those applications judged to be non-responsive or incomplete will be returned to the applicant without review.

Applications that are complete and responsive to the guidance will be evaluated for scientific and technical merit by an appropriate peer review group specifically convened for this solicitation and in accordance with HHS policies and procedures. As part of the initial merit review, all applications will receive a written critique. All applications recommended for approval will be discussed fully by the ad hoc peer review group and assigned a priority score for funding. Eligible applications will be assessed according the following criteria:

(1) Technical Approach (40 points):

• The applicant's presentation of a sound and practical technical approach for executing the requirements with adequate explanation, substantiation and justification for methods for handling the projected needs of the partner institution.

• The successful applicant must demonstrate a clear understanding of the scope and objectives of the cooperative agreement, recognition of potential difficulties that may arise in performing the work required, presentation of adequate solutions, and understanding of the close coordination necessary between the OGHA/HHS, Afghanistan Ministry of Public Health, U.S. Agency for International Development, and other organizations, such as the World Health Organization and United Nations Children's Fund.

• Applicants must submit a strategic plan that outlines the schedule of activities and expected products of the Group's work with benchmarks at months six, 12. The strategic plan should specifically address the expected progress of the Quality of Care program.

(4) Personnel Qualifications and Experience (20 points):

• Project Leadership—For the technical and administrative leadership of the project requirements, successful applicants must demonstrate documented training, expertise, relevant experiences, leadership/management skills, and availability of a suitable overall project manager and surrounding management structure to successfully plan and manage the project. Successful applicant will provide documented history of leadership in the establishment and management of training programs that involve training of health care professionals in countries other than the United States. Expertise in maternal and child health care and services including documented training, expertise, relevant experience, leadership skills, and maternal and child health specific medical expertise. Documented managerial ability to achieve delivery or performance requirements as demonstrated by the proposed use of management and other personnel resources and to successfully manage the project, including subcontractor and/or consultant efforts, if applicable, as evidence by the management plan and demonstrated by previous relevant experience.

• Partner Institutions and other Personnel—Applicants should provide documented evidence of availability, training, qualifications, expertise, relevant experience, education and competence of the scientific, clinical, analytical, technical and administrative staff and any other proposed personnel (including partner institutions, subcontractors and consultants), to perform the requirements of the work activities as evidenced by resumes, endorsements and explanations of previous efforts.

• Staffing Plan—Applicants should submit a staffing plan for the conduct of the project, including the appropriateness of the time commitment of all staff and partner institutions, the clarity and appropriateness of assigned roles, lines of authority. Applicants should also provide an organizational chart for each partner institution named in the application showing relationships among the key personnel.

• Administrative and Organizational Framework—Adequacy of the administrative and organizational framework, with lines of authority and responsibility clearly demonstrated, and adequacy of the project plan, with proposed time schedule for achieving objectives and maintaining quality control over the implementation and operation of the project. Adequacy of back-up staffing and the evidence that they will be able to function as a team. The framework should identify the institution that will assume legal and financial responsibility and accountability for the use and disposition of funds awarded on the basis of this RFA.

(5) Experience and Capabilities of the Organization (30 Points):

• Applicants should submit documented relevant experience of the organization in managing projects of similar complexity and scope of the activities.

• Clarity and appropriateness of lines of communication and authority for coordination and management of the project. Adequacy and feasibility of plans to ensure successful coordination of a multiple-partner collaboration.

• Documented experience recruiting qualified medical personnel for projects of similar complexity and scope of activities.

(4) Facilities and Resources (10 Points):

Documented availability and adequacy of facilities, equipment and resources necessary to carry out the activities specified under Program Requirements.

2. Review and Selection Process

Applications will be reviewed in competition with other submitted applications, by a panel of peer reviewers. Each of the above criteria will be addressed and considered by the reviewers in assigning the overall score. Final award will be made by the Deputy Director, Asia and Pacific Division of the Office Global Health Affairs on the basis of score, program relevance and, availability of funds.

VI. Award Administration Information

1. Award Notices

OGHA/HHS does not release information about individual applications during the review process until final funding decisions have been made. When these decisions have been made, applicants will be notified by letter regarding the outcome of their applications. The official document notifying an applicant that an application has been approved and funded is the Notice of Award, which specifies to the awardee the amount of money awarded, the purpose of the agreement, the terms and conditions of the agreement, and the amount of funding, if any, to be contributed by the awardee to the project costs.

2. Administrative and National Policy Requirements

The regulations set out at 45 CFR parts 74 and 92 are the Department of Health and Human Services (HHS) rules and requirements that govern the administration of grants. Part 74 is applicable to all recipients except those covered by part 92, which governs awards to state and local governments. Applicants funded under this announcement must be aware of and comply with these regulations. The CFR volume that includes parts 74 and 92 may be downloaded from http://www.access.gpo.gov/nara/cfr/waisidx_03/45cfrv1_03.html.

Reporting: Each party to this Cooperative Agreement has agreed to undertake the following obligations:

The applicant (recipient) agrees to:

a. Provide a budget for the acquisition and installation of the necessary equipment to complete the HHS Project, using the provided HHS Guidelines on Medical Equipment Donation;

b. Facilitate the acquisition, refurbishment and calibration of the necessary equipment at a reduced cost;

c. Prepare the necessary items for shipping including preparation of shipping documents for entry into partner country;

d. Provide manuals for the donated equipment which can be translated into the primary language, at a sixth grade reading level and contain illustrations. Manuals must include content on the proper storage, cleaning and care and repair of the equipment;

e. Ensure that the training method or module includes essential content regarding the adherence to established infection control principles;

f. Provide technical training and examination of proficiency by the user on agreed upon technologies and supplied equipment;

g. Ensure that training is provided by a certified trainer at a time closely coordinated with the delivery of the equipment or materials; and,

h. Accompany the equipment and supplies for the purpose of overseeing the distribution, installation, and training in partner institution.

HHS agrees to:

a. Identify the funds necessary for the acceptance of the necessary equipment in keeping with the approved budget; and,

b. Identify the funds or transportation necessary for the shipping of goods to partner country.

All projects are required to have an evaluation plan, consistent with the scope of the proposed project and funding level that conforms to the project's stated goals and objectives. The evaluation plan should include both a process evaluation to track the implementation of project activities and an outcome evaluation to measure changes in knowledge and skills that can be attributed to the project. Project funds may be used to support evaluation activities.

In addition to conducting their own evaluation of their projects, successful applicants must be prepared to participate in an external evaluation, to be supported by OGHA/HHS and conducted by an independent entity, to assess efficiency and effectiveness for the project funded under this announcement.

Within 30 days following the end of each of quarter, submit a performance report no more than ten pages in length must be submitted to OGHA/HHS. A sample monthly performance report will be provided at the time of notification of award. At a minimum, monthly performance reports should include:

• Concise summary of the most significant achievements and problems encountered during the reporting period, e.g. number of training courses held and number of trainees.

• A comparison of work progress with objectives established for the quarter using the grantee's implementation schedule, and where such objectives were not met, a statement of why they were not met.

• Specific action(s) that the grantee would like the OGHA/HHS to undertake to alleviate a problem.

• Other pertinent information that will permit monitoring and overview of project operations.

• A quarterly financial report describing the current financial status of the funds used under this award. The awardee and OGHA will agree at the time of award for the format of this portion of the report.

Within 90 days following the end of the project period a final report containing information and data of interest to the Department of Health and Human Services, Congress, and other countries must be submitted to OGHA/HHS. The specifics as to the format and content of the final report and the summary will be sent to successful applicants. At minimum, the report should contain:

• A summary of the major activities supported under the agreement and the major accomplishments resulting from activities to improve mortality in partner country.

• An analysis of the project based on the problem(s) described in the application and needs assessments, performed prior to or during the project period, including a description of the specific objectives stated in the grant application and the accomplishments and failures resulting from activities during the grant period.

Quarterly performance reports and the final report may be submitted to: Ms. Karen Campbell, Director, Office of Grants Management, OPHS, HHS, 1101 Wootton Parkway, Suite 550, Rockville, MD 20852, phone (240) 453-8822.

VII. Agency Contacts

For assistance on administrative and budgetary requirements, please contact: Ms. Karen Campbell, Director, Office of Grants Management, OPHS, HHS, 1101 Wootton Parkway, Suite 550, Rockville, MD 20852, phone (240) 453-8822.

For assistance with questions regarding program requirements, please contact: Dr. Amar Bhat, Asia-Pacific Division, Office of Global Health Affairs, Office of the Secretary, Department of Health and Human Services, 5600 Fishers Lane, Suite 18-101, Rockville, MD 20857. Phone Number: 301-443-1410.

VIII. Tips for Writing a Strong Application

Include DUNS Number. You must include a DUNS Number to have your application reviewed. Applications will not be reviewed without a DUNS number. To obtain a DUNS number, access http://www.dunandbradstreet.com or call 1-866-705-5711. Please include the DUNS number next to the OMB Approval Number on the application face page.

Keep your audience in mind. Reviewers will use only the information contained in the application to assess the application. Be sure the application and responses to the program requirements and expectations are complete and clearly written. Do not assume that reviewers are familiar with the applicant organization. Keep the review criteria in mind when writing the application.

Start preparing the application early. Allow plenty of time to gather required information from various sources.

Follow the instructions in this guidance carefully. Place all information in the order requested in the guidance. If the information is not placed in the requested order, you may receive a lower score.

Be brief, concise, and clear. Make your points understandable. Provide accurate and honest information, including candid accounts of problems and realistic plans to address them. If any required information or data is omitted, explain why. Make sure the information provided in each table, chart, attachment, etc., is consistent with the proposal narrative and information in other tables.

Be organized and logical. Many applications fail to receive a high score because the reviewers cannot follow the thought process of the applicant or because parts of the application do not fit together.

Be careful in the use of appendices. Do not use the appendices for information that is required in the body of the application. Be sure to cross-reference all tables and attachments located in the appendices to the appropriate text in the application.

Carefully proofread the application. Misspellings and grammatical errors will impede reviewers in understanding the application. Be sure pages are numbered (including appendices) and that page limits are followed. Limit the use of abbreviations and acronyms, and define each one at its first use and periodically throughout application.

Dated: August 26, 2005.
Mary Lou Valdez,
Deputy Director for Policy, Office of Global Health Affairs.
Cristina V. Beato,
Acting Assistant Secretary for Health, Office of Public Health and Science.

[FR Doc. 05-17590 Filed 9-2-05; 8:45 am]

BILLING CODE 4150-38-P